DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is 150 days from the date of publication. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Upland Avenue from 66th Street to 114th Street in Lubbock, Lubbock County, Texas. The improvements will consist of widening the existing two-lane roadway to a five-lane modified principal arterial typical section (two lanes in each direction with a center turn lane), drainage improvements, shared-use paths, and right turn lanes at designated cross streets. The project length is 3.16 miles in length. The addition of travel lanes and the shared-use paths along Upland Avenue will increase mobility and safety for those traveling along Upland Avenue, which will encourage the use of local services and facilities. The actions by TxDOT and Federal agencies and the laws under which such actions were taken are described in the Categorical Exclusion Determination issued on July 7, 2020, and other documents in the TxDOT project file. The Categorical Exclusion Determination and other documents in the TxDOT project file are available by contacting TxDOT at the address provided above or the TxDOT Lubbock District Office at 135 Slaton Road, Lubbock, TX 79404; telephone: 806-748-4472.

2. University Boulevard from FM 1460 East to SH 130, Williamson County, Texas. The project will widen University Boulevard from a two-lane to a four-lane roadway with 4-foot-wide inside shoulders, 10-foot-wide outside shoulders and a grassy median. The project is approximately 3.45 miles in length. The actions by TxDOT and Federal agencies and the laws under which such actions were taken are described in the Categorical Exclusion Determination issued on July 16, 2020 and other documents in the TxDOT project file. The Categorical Exclusion Determination and other documents in the TxDOT project file are available by contacting TxDOT at the address provided above or the TxDOT Austin District Office at 7901 North I-35, Austin, TX 78753; (512) 832-7000.

3. SH 5 from South of FM 1378 to CR 275 in Collin County, Texas. The proposed project would reconstruct and widen SH 5 within the project limits. From Country Club Road to Spur 399, the existing 2-lane rural roadway will be reconstructed to a 4-lane (6-lan ultimate) divided urban roadway with raised curbed and a variable-width median. From Spur 399 to Industrial Boulevard (FM 546), the existing 4-lane divided rural roadway with depressed median will be reconstructed to a 6-lane divided urban roadway with a 17-foot curbed median. From Industrial Boulevard (FM 546) to south of N Tennessee St, the existing 4-lane divided with curbed median and 4-lane divided with a continuous left turn lane urban segment will be reconstructed to a 4-lane divided urban roadway with 17-foot curbed median. From south of N Tennessee St south of Melissa Road, the existing 2-lane rural roadway will be reconstructed to a 4-lane divided urban roadway with curbed, 42-foot median. The proposed project includes reconfiguration of the SH 399/SH 5 interchange near the southern project limits to include a flyover bridge from SS 399 South to SH 5 South. The total project length is approximately 7.22 miles. The purpose of the proposed project to improve safety and mobility, and update the roadway to current design and safety standards. The actions by TxDOT and Federal agencies and the laws under which such actions were taken are described in the Categorical Exclusion Determination issued on July 21, 2020, and other documents in the TxDOT project file. The Categorical Exclusion Determination and other documents in the TxDOT project file are available by contacting TxDOT at the address provided above or the TxDOT Dallas District Office at 4777E. Highway 80, Mesquite, TX 75150; telephone (214) 320-4480.

4. US 59 at FM 1794, Panola County, Texas. The proposed project would include the construction of overpass bridges, one-way frontage roads, ramps and turnarounds on US 59 at FM 1794. Reconstruction and widening of approximately 1.2 miles of the US 59 main lanes and 0.3 miles of FM 1794 is also proposed. The actions by TxDOT and Federal agencies and the laws under which such actions were taken are described in the Categorical Exclusion Determination approved on July 31, 2020, and other documents in the TxDOT project file. The Categorical Exclusion Determination and other documents in the TxDOT project file are available by contacting TxDOT at the address provided above or the TxDOT Atlanta District Office at 701 East Main St., Atlanta TX 75551; telephone (903) 799-1306.

5. FM 1641 from FM 548 to FM 148 and FM 548 from FM 1641 to US 80 in Kaufman County, Texas. The proposed project would reconstruct and widen from a 2-lane to a 4-lane urban divided roadway with a raised median. The proposed facility would consist of 4 lanes (2 in each direction) with a raised median (FM 548 and FM 1641 from FM 548 to IH 20), and of 4 lanes (2 in each direction) with a two-way center left turn lane for FM 1641 from IH 20 to FM 148. The total project length is approximately 5.6 miles. The purpose of the proposed project is to provide congestion relief, improve operations of the roadway, improve safety, increase mobility, and provide improved connectivity to the area. The actions by TxDOT and Federal agencies and the laws under which such actions were taken are described in the Categorical Exclusion Determination issued on August 21, 2020 and other documents in the TxDOT project file. The Categorical Exclusion Determination and other documents in the TxDOT project file are available by contacting TxDOT at the address provided above or the TxDOT Dallas District Office at 4777E. Highway 80, Mesquite, TX 75150; telephone (214) 320-4480.

6. RM 620 from SH 71 to Hudson Bend Road, Travis County, Texas. The project will widen the existing four-lane divided rural roadway to a six-lane divided urban roadway, add raised medians, and add a continuous shared-use path along both sides of the road throughout the corridor. The project is approximately 9.2 miles in length. The actions by TxDOT and Federal agencies and the laws under which such actions were taken are described in the Final Environmental Assessment (EA) approved on August 3, 2020, the Finding of No Significant Impact (FONSI) issued on August 3, 2020, and other documents in the TxDOT project file. The EA, FONSI and other documents in the TxDOT project file are available by contacting TxDOT at the address provided above or the TxDOT Austin District Office at 7901 North I-35, Austin, TX 78753; (512) 832-7000.

7. IH 10/US 69 Interchanges from Walden Road (CR 131) to 7th Street in Jefferson County, Texas. The proposed project includes reconstructing and expanding I-10 and US 69 where they converge in the city of Beaumont. The project would widen the existing I-10 from Walden Road (CR 131) to 7th Street and existing US 69 from Fannett Road (SH 124) to 11th Street. Between the Cardinal Drive and Eastex Freeway interchanges, the roadway would be widened in each direction from four lanes to five lanes. The roadway approaches to the Cardinal Drive and Eastex Freeway interchanges on I-10 and US 69 would be widened in each direction from two lanes to three lanes. The project also includes new frontage roads for continuity throughout the limits, relocating I-10 ramps, and constructing two-lane direct connectors in each direction where I-10 and US 69 converge within the project limits. In addition, the project includes the removal of the Maury Meyers Bridge (Liberty/Laurel Overpass) to address a height constraint for freight movements and includes upgrading drainage infrastructure to current design standards. The actions by TxDOT and Federal agencies and the laws under which such actions were taken are described in the Final Environmental Assessment (EA) approved on August 04, 2020, the Finding of No Significant Impact (FONSI) issued on August 04, 2020 and other documents in the TxDOT project file. The EA, FONSI, and other documents in the TxDOT project file are available by contacting the TxDOT Beaumont District Office at 8350 Eastex Freeway, Beaumont, Texas 77708; telephone (409) 898-5732. The EA and FONSI can also be viewed and downloaded from the following website: https://www.txdot.gov/inside-txdot/get-involved/about/hearings-meetings/beaumont/080720.html.

8. State Loop 335 from SW 9th Avenue to FM 1719, in Potter County, Texas. The proposed project will upgrade the existing State Loop (SL) 335 roadway to a new controlled access highway facility with four grade-separated main lanes, frontage roads, connecting ramps, and accommodation of future expansion to an ultimate six-lane section within proposed ROW. The project will also include a new interchange to accommodate a future road and add bicycle and pedestrian facilities. The total project length is approximately 6.0 miles long. This project will provide expanded capacity and improved efficiency of the roadway to address local and regional mobility concerns, as well as freight mobility and capacity concerns. The actions by TxDOT and Federal agencies and the laws under which such actions were taken are described in the Final Environmental Assessment (EA) approved on August 18, 2020, the Finding of No Significant Impact (FONSI) issued on August 18, 2020 and other documents in the TxDOT project file. The EA, FONSI, and other documents in the TxDOT project file are available by contacting TxDOT at the TxDOT Amarillo District Office at 5715 Canyon Drive, Amarillo, TX 79110; telephone (806) 356-3200.

9. TxDOT is proposing to reconstruct and add capacity to Interstate Highway (I) 20, I-820 and United States Highway (US) 287 including three major interchanges in southeast Tarrant County, Texas, within the cities of Arlington, Forest Hill, Fort Worth, and Kennedale. The major interchanges are the I-820/US 287 Interchange, the I-20/I-820 Interchange, and the I-20/US 287 Interchange. This project spans approximately 16 miles and would add main lanes and frontage roads to I-20 from Forest Hill Drive to Park Springs Boulevard, I-820 from I-20 to Brentwood Stair Road, and US 287 from Bishop Street to Sublett Road. New frontage roads would be constructed at various locations, and bicycle and pedestrian accommodations would be provided throughout. The project is collectively referred to as the “Southeast Connector.” The purpose of the project is to reduce traffic congestion, improve mobility and connectivity, and provide continuous pedestrian/bike facilities. The actions by TxDOT and Federal agencies and the laws under which such actions were taken are described in the Final Environmental Assessment (EA) approved on September 2, 2020, the Finding of No Significant Impact (FONSI) issued on September 3, 2020, and other documents in the TxDOT project file. The EA, FONSI, and other documents in the TxDOT project file are available by contacting TxDOT at the address provided above or the TxDOT Fort Worth District Office at 2501 SW Loop 820, Fort Worth, Texas, 76133; and telephone (817) 370-6744. The EA and FONSI can also be viewed and downloaded from the following website: https://www.txdot.gov/inside-txdot/get-involved/about/hearings-meetings/fort-worth/090420.html.

10. FM 664 from US 287 to Westmoreland Road in Ellis County, Texas. The proposed project would reconstruct, realign, and widen FM 664 within the proposed limits. Improvements would include the expansion of the current 2-lane rural roadway to a 4-lane urban roadway (ultimate 6-lanes) with a raised median. Improvements would consist of 12-foot-wide travel lanes, 14-foot-wide outside shared-use lanes, and 6-foot sidewalks. The length of the proposed project is approximately 8.08 miles. The purpose of the proposed project is to reduce traffic congestion on the existing roadways; to improve operations of the roadway; to increase mobility (including pedestrian and bicycle accommodations); and, to provide improved connectivity to the area. The actions by TxDOT and Federal agencies and the laws under which such actions were taken are described in the Final Environmental Assessment (EA) approved on September 15, 2020, Finding of No Significant Impact (FONSI) issued on September 15, 2020 and other documents in the TxDOT project file. The EA and other documents are available by contacting TxDOT at the address provided above or the TxDOT Dallas District Office at 4777 E. Highway 80, Mesquite, TX 75150; telephone: (214) 320-4480.

11. SH 332 from FM 521 to SH 288 in Brazoria County, Texas. The project proposes to reconstruct and widen the existing facility from two to four lanes (two lanes each direction) from FM 521 to FM 2004, and from four to six lanes (three lanes in each direction) from FM 2004 to SH 288. Reconstruction or replacement of bridges over Buffalo Camp Bayou and an adjacent diversion channel, as well as sidewalks on both sides of the roadway for the length of the project are also proposed. A new drainage channel from SH 332, at a location approximately 800 feet west of Division Street, south to the Brazos River is also included. The project requires approximately 70.4 acres of additional ROW, and is approximately 5.3 miles in length. The actions by TxDOT and Federal agencies, and the laws under which such actions were taken, are described in the Final Environmental Assessment (EA) approved on September 15, 2020, the Finding of No Significant Impact (FONSI) issued on September 16, 2020, and other documents in the TxDOT project file. The EA, FONSI, and other documents in the TxDOT project file are available by contacting TxDOT at the address provided above or the TxDOT Houston District Office located at 7600 Washington Avenue, Houston, Texas 77007; telephone (713) 802-5076.

Authority: 23 U.S.C. 139(l)(1).

Issued on: September 28, 2020.
Michael T. Leary,
Director, Planning and Program Development, Federal Highway Administration.

[FR Doc. 2020-21883 Filed 10-8-20; 8:45 am]

BILLING CODE 4910-22-P